NUCLEAR REGULATORY COMMISSION

10 CFR Part 51

[Docket Nos. PRM-51-31; NRC-2014-0055]

Environmental Impacts of Spent Fuel Storage During Reactor Operation

AGENCY: Nuclear Regulatory Commission.

ACTION: Supplemental petition for rulemaking; notice of receipt.

SUMMARY: The U.S. Nuclear Regulatory Commission (NRC) has received a supplement to a petition for rulemaking filed with the NRC by Diane Curran and Mindy Goldstein on behalf of 34 Environmental Organizations (the petitioner). The NRC docketed the original petition, dated February 18, 2014, as PRM-51-31. The supplement adds information to the record and is noticed for information only. The NRC is not requesting public comment.

DATES: The supplement to the petition is available on July 24, 2014.

ADDRESSES: Please refer to Docket ID NRC-2014-0055 when contacting the NRC about the availability of information for this petition. You may access publicly-available information related to this petition by any of the following methods:

• Federal Rulemaking Web site: Go to http://www.regulations.gov and search for Docket ID NRC-2014-0055. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jennifer Tobin, Office of Nuclear Reactor Regulation, telephone: 301-415-2328, email: Jennifer.Tobin@nrc.gov; U.S. Nuclear Regulatory Commission, Washington, DC 20555-0001.

SUPPLEMENTARY INFORMATION: The NRC received a petition for rulemaking dated February 18, 2014, submitted by Diane Curran, Harmon, Curran, Spielberg & Eisenberg, L.L.P., and Mindy Goldstein, Turner Environmental Law Clinic, Emory Law School, on behalf of 34 Environmental Organizations (ADAMS Accession No. ML14071A382). The petition was docketed as PRM-51-31. The NRC published a notice of receipt of PRM-51-31 in the Federal Register on May 1, 2014 (79 FR 24595). On June 26, 2014, the petitioner submitted to the NRC a document characterized as an “amended petition” for rulemaking (ADAMS Accession No. ML14177A660). The petitioner requests the NRC to “add to the record of the February 18, 2014 Petition the observations made by Chairman Macfarlane in her dissenting comments” on the NRC staff document designated COMSECY-13-0030—“Staff Evaluation and Recommendation for Japan Lessons-Learned Tier 3 Issue on Expedited Transfer of Spent Fuel.” ¹

¹ COMSECY-13-0030 is available at ADAMS Accession No. ML13273A601; the comments of all five NRC Commissioners on COMSECY-13-0030, including those of Chairman Macfarlane, are available at http://www.nrc.gov/reading-rm/doc-collections/commission/comm-secy/2013/2013-0030comvtr.pdf.

In its February 18, 2014, petition (ADAMS Accession No. ML14071A382), the petitioner asserted that COMSECY-13-0030 constituted new and significant information under the National Environmental Policy Act (NEPA). On this basis, the petitioner requested that the NRC take the following actions, which the petitioner asserts is necessary to ensure the NRC's compliance with NEPA:

• Republish for public comment the 2013 Revised License Renewal Generic Environmental Impact Statement, the Environmental Impact Statements for all new reactors; and the Environmental Assessments for all new certifications of standardized reactor designs;

• Duly modify the NRC's regulations that make or rely on findings regarding the environmental impacts of spent fuel storage during reactor operation, including Table B-1 in subpart A of appendix B in part 51 of Title 10 of the Code of Federal Regulations (10 CFR) and all regulations approving standardized reactor designs.

The NRC does not consider the June 26, 2014, document to be an amendment to the February 18, 2014, petition as the petitioner does not request that the NRC take any rulemaking actions that were not otherwise requested in the February 18, 2014, petition. Therefore, the NRC will consider the June 26, 2014, document to be a supplement to PRM-51-31, and accordingly, will include it in the docket for PRM-51-31 (NRC-2014-0055). The NRC is publishing this notice for information only and is not requesting public comment.

Dated at Rockville, Maryland, this 17th day of July 2014.
For the Nuclear Regulatory Commission.
Annette L. Vietti-Cook,
Secretary of the Commission.

[FR Doc. 2014-17447 Filed 7-23-14; 8:45 am]

BILLING CODE 7590-01-P